DEPARTMENT OF ENERGY

Federal Energy Regulatory Commission

Revised Notice for Commission Open Meeting on March 15, 2007

March 13, 2007.

On March 8, 2007, the Commission issued a Notice pursuant to the Government in the Sunshine Act, 5 U.S.C. 552b, announcing the agenda for the Commission's open meeting to be held on March 15, 2007.

Take notice that the docket numbers for the item listed as “C-4” are revised to read as follows:

“C-4 CP06-448-000 and CP06-449-000”.

A corrected version of the Sunshine Notice for the March 15, 2007 open meeting will be posted in the Commission's eLibrary system and the Commission's Web site.

This Notice is issued pursuant to the Government in the Sunshine Act, 5 U.S.C. 552b. Chairman Kelliher, Commissioners Kelly, Spitzer, Moeller and Wellinghoff, voted to issue this notice on March 9, 2007.

Philis J. Posey,
Acting Secretary.

[FR Doc. E7-4836 Filed 3-15-07; 8:45 am]

BILLING CODE 6717-01-P